DEPARTMENT OF JUSTICE

Antitrust Division

Notice Pursuant to the National Cooperative Research and Production Act of 1993—Advanced Micro Devices, Inc./ObjectSpace, Inc.

Notice is hereby given that, on September 11, 2000, pursuant to section 6(a) of the National Cooperative Research and Production Act of 1993, 15 U.S.C. 4301 et seq. (“the Act”), Advanced Micro Devices, Inc./ObjectSpace, Inc. has filed written notifications simultaneously with the Attorney General and the Federal Trade Commission disclosing changes in its membership status. The notifications were filed for the purpose of extending the Act's provisions limiting the recovery of antitrust plaintiffs to actual damages under specified circumstances. Specifically, KLA-Tencor Corp., San Jose, CA has acquired the Fab Solutions Division of ObjectSpace, Inc., Dallas, TX and has been added as a party to this venture.

No other changes have been made in either the membership or planned activity of the group research project. Membership in this group research project remains open, and Advanced Micro Devices, Inc./ObjectSpace, Inc. intends to file additional written notification disclosing all changes in membership.

On December 19, 1997, Advanced Micro Devices, Inc./ObjectSpace, Inc. filed its original notification pursuant to section 6(a) of the Act. The Department of Justice published a notice in the Federal Register pursuant to section 6(b) of the Act on July 24, 1998 (63 FR 39901).

Constance K. Robinson,
Director of Operations, Antitrust Division.

[FR Doc. 00-27172 Filed 10-20-00; 8:45 am]

BILLING CODE 4410-11-M